Proclamation 9818 of October 31, 2018

National Native American Heritage Month, 2018

By the President of the United States of America

A Proclamation

During National Native American Heritage Month, we celebrate the legacy of the first people to call this land home. America's Native Americans have fortified our country with their traditions and values, making tremendous contributions to every aspect of our national life. We remain committed to preserving and protecting Native American cultures, languages, and history, while ensuring prosperity and opportunity for all Native Americans.

American Indians and Alaska Natives are both important components of the American mosaic. Native Americans are business owners creating good jobs for American workers, teachers educating our children, first responders assisting neighbors in need, and leaders serving their communities. This month, we especially recognize the immeasurable contribution of American Indians and Alaska Natives who serve in the Armed Forces at five times the national average. We also acknowledge the many American Indians and Alaska Natives who are members of Federal, State, local, and tribal law enforcement and who sacrifice their safety for the security of all.

My Administration is committed to the sovereignty of Indian nations—including the rights of self-determination and self-governance—and ensuring economic opportunity from Window Rock in Arizona to the Badger-Two Medicine region in Montana. By engaging with tribal leaders as representatives of sovereign nations, my Administration is working to find effective solutions to pernicious challenges, such as generational poverty. Our partnership is furthering economic development and advancing needed reforms.

My Administration has also embraced all Federal agencies—especially the Bureau of Indian Affairs, the Indian Health Service, and the Bureau of Indian Education—to improve the quality of services delivered to American Indian and Alaska Native communities. We are combating the destructive opioid epidemic, confronting human trafficking and violent crime, expanding educational opportunity, increasing collaborative homeland security approaches to border security, and improving infrastructure throughout Indian country.

Earlier this year, I was pleased to sign into law legislation giving Federal recognition to six American Indian Tribes. The formal recognition of these sovereign governments is a symbol of our ongoing effort to restore self-governance and economic vitality to Native American peoples, and we welcome these tribes into America's family of sovereign nations.

Our Nation is proud of and grateful for its Native American heritage and traditions, including a history of innovation and entrepreneurship. The essential contributions of Native Americans continue to strengthen our American family and brighten our future together. This month, I encourage all Americans to learn more about American Indian and Alaska Native cultures as we celebrate and honor the many Native peoples who have given so much to our great Nation.

NOW, THEREFORE, I, DONALD J. TRUMP, President of the United States of America, by virtue of the authority vested in me by the Constitution and the laws of the United States, do hereby proclaim November 2018 as National Native American Heritage Month. I call upon all Americans to commemorate this month with appropriate programs and activities and to celebrate November 23, 2018, as Native American Heritage Day.

IN WITNESS WHEREOF, I have hereunto set my hand this thirty-first day of October, in the year of our Lord two thousand eighteen, and of the Independence of the United States of America the two hundred and forty-third.

[FR Doc. 2018-24363

Filed 11-5-18; 8:45 am]

Billing code 3295-F9-P